DEPARTMENT OF COMMERCE

International Trade Administration

[A-580-914]

Certain Superabsorbent Polymers From the Republic of Korea: Initiation of Less-Than-Fair-Value Investigation

AGENCY: Enforcement and Compliance, International Trade Administration, Department of Commerce.

DATES: Applicable November 22, 2021.

FOR FURTHER INFORMATION CONTACT: Charles DeFilippo or Elfi Blum; AD/CVD Operations, Enforcement and Compliance, International Trade Administration, U.S. Department of Commerce, 1401 Constitution Avenue NW, Washington, DC 20230; telephone: (202) 482-3979 or (202) 482-0197, respectively.

SUPPLEMENTARY INFORMATION:

Petition

On November 2, 2021, the Department of Commerce (Commerce) received an antidumping duty (AD) petition concerning imports of certain superabsorbent polymers (SAP) from the Republic of Korea (Korea), filed in proper form on behalf of the Ad Hoc Coalition of American SAP Producers (the petitioner), whose members are BASF Corporation, Evonik Superabsorber LLC, and Nippon Shokubai America Industries, Inc., domestic producers of SAP.¹

¹ See Petitioner's Letter, “Petition for the Imposition of Antidumping Duties on Imports of Certain Superabsorbent Polymers from the Republic of Korea,” dated November 2, 2021 (Petition); see also Petitioner's Letter, “Amendment to the Petition for the Imposition of Antidumping Duties on Imports of Certain Superabsorbent Polymers from the Republic of Korea,” dated November 3, 2021 (Amended Petition) (collectively, Petition, as amended).

On November 4, 2021, Commerce requested supplemental information pertaining to certain aspects of the Petition.² The petitioner filed a response to these requests on November 9, 2021.³ On November 10, 2021, Commerce conducted a teleconference with the petitioner, and the petitioner addressed Commerce's concerns discussed therein with its supplemental response submitted on November 12, 2021.⁴

² See Commerce's Letter, “Petition for the Imposition of Antidumping Duties on Imports of Certain Superabsorbent Polymers from the Republic of Korea: Supplemental Questions,” dated November 4, 2021 (Supplemental Questionnaire).

³ See Petitioner's Letter, “Certain Superabsorbent Polymers from the Republic of South Korea—Responses to Supplemental Questions,” dated November 9, 2021 (Petition Supplement).

⁴ See Memorandum, “Petition for the Imposition of Antidumping Duties on Imports of Certain Superabsorbent Polymers from the Republic of Korea: Phone Call with Counsel to the Petitioner,” dated November 10, 2021 (Phone Memo); and Petitioner's Letter, “Certain Superabsorbent Polymers from the Republic of Korea—Responses to Second Supplemental Questionnaire,” dated November 12, 2021 (Scope Supplement).

In accordance with section 732(b) of the Tariff Act of 1930, as amended (the Act), the petitioner alleges that imports of SAP from Korea are being, or are likely to be, sold in the United States at less than fair value (LTFV) within the meaning of section 731 of the Act, and that imports of such products are materially injuring, or threatening material injury to, the SAP industry in the United States. Consistent with section 732(b)(1) of the Act, the Petition is accompanied by information reasonably available to the petitioner supporting its allegations.

Commerce finds that the petitioner filed the Petition on behalf of the domestic industry, because the petitioner is an interested party, as defined in section 771(9)(E) of the Act.⁵ Commerce also finds that the petitioner demonstrated sufficient industry support for the initiation of the requested AD investigation.⁶

⁵ See Petition, as amended, at Volume I at 2.

⁶ See infra, section on “Determination of Industry Support for the Petition.”

Period of Investigation

Because the Petition was filed on November 2, 2021, the period of investigation (POI) for this investigation is October 1, 2020, through September 30, 2021, pursuant to 19 CFR 351.204(b)(1).

Scope of the Investigation

The product covered by this investigation is SAP from Korea. For a full description of the scope of this investigation, see the appendix to this notice.

Comments on the Scope of the Investigation

On November 4, 2021, and on November 10, 2021, Commerce requested further information and clarification from the petitioner regarding the proposed scope to ensure that the scope language in the Petition is an accurate reflection of the products for which the domestic industry is seeking relief.⁷ On November 9 and 12, 2021, the petitioner revised the scope.⁸ The description of the merchandise covered by this investigation, as described in the appendix to this notice, reflects these clarifications.

⁷ See Supplemental Questionnaire at 3; see also Phone Memo.

⁸ See Petition Supplement at 7-8; see also Scope Supplement at 5-6.

As discussed in the Preamble to Commerce's regulations, we are setting aside a period of time for interested parties to raise issues regarding product coverage (i.e., scope).⁹ Commerce will consider all comments received from interested parties and, if necessary, will consult with interested parties prior to the issuance of the preliminary determinations. If scope comments include factual information,¹⁰ all such factual information should be limited to public information. To facilitate preparation of its questionnaires, Commerce requests that all interested parties submit such comments by 5:00 p.m. Eastern Time (ET) on December 13, 2021, which is the next business day after 20 calendar days from the signature date of this notice.¹¹ Any rebuttal comments, which may include factual information, must be filed by 5:00 p.m. ET on December 23, 2021, which is ten calendar days from the initial comment deadline.

⁹ See Antidumping Duties; Countervailing Duties, Final Rule, 62 FR 27296, 27323 (May 19, 1997) (Preamble).

¹⁰ See 19 CFR 351.102(b)(21) (defining “factual information”).

¹¹ The 20-day deadline falls on December 12, 2021, which is a Sunday. Therefore, in accordance with the Next Business Day Rule, the deadline moves to the next business day, December 13, 2021. See Notice of Clarification: Application of “Next Business Day” Rule for Administrative Determination Deadlines Pursuant to the Tariff Act of 1930, as Amended, 70 FR 24533 (May 10, 2008) (Next Business Day Rule).

Commerce requests that any factual information that parties consider relevant to the scope of the investigation be submitted during that period. However, if a party subsequently finds that additional factual information pertaining to the scope of the investigation may be relevant, the party may contact Commerce and request permission to submit the additional information. All such submissions must be filed on the record of this AD investigation.

Filing Requirements

All submissions to Commerce must be filed electronically using Enforcement and Compliance's Antidumping Duty and Countervailing Duty Centralized Electronic Service System (ACCESS), unless an exception applies.¹² An electronically filed document must be received successfully in its entirety by the time and date it is due.

¹² See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook_on_Electronic_Filing_Procedures.pdf.

Comments on Product Characteristics

Commerce is providing interested parties an opportunity to comment on the appropriate physical characteristics of SAP to be reported in response to Commerce's AD questionnaires. This information will be used to identify the key physical characteristics of the subject merchandise in order to report the relevant costs of production accurately, as well as to develop appropriate product-comparison criteria.

Interested parties may provide any information or comments that they feel are relevant to the development of an accurate list of physical characteristics. Specifically, they may provide comments as to which characteristics are appropriate to use as: (1) General product characteristics; and (2) product comparison criteria. We note that it is not always appropriate to use all product characteristics as product comparison criteria. We base product comparison criteria on meaningful commercial differences among products. In other words, although there may be some physical product characteristics utilized by manufacturers to describe SAP, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on December 13, 2021, which is the next business day after 20 calendar days from the signature date of this notice.¹³ Any rebuttal comments must be filed by 5:00 p.m. ET on December 23, 2021. All comments and submissions to Commerce must be filed electronically using ACCESS, as explained above.

¹³ See Next Business Day Rule.

Determination of Industry Support for the Petition

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹⁴ they do so for different purposes and pursuant to a separate and distinct authority. In addition, Commerce's determination is subject to limitations of time and information. Although this may result in different definitions of the like product, such differences do not render the decision of either agency contrary to law.¹⁵

¹⁴ See section 771(10) of the Act.

¹⁵ See USEC, Inc. v. United States, 132 F. Supp. 2d 1, 8 (CIT 2001) (citing Algoma Steel Corp. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigation.¹⁶ Based on our analysis of the information submitted on the record, we have determined that SAP, as defined in the scope, constitutes a single domestic like product, and we have analyzed industry support in terms of that domestic like product.¹⁷

¹⁶ See Petition, as amended, at Volume I at 8-10.

¹⁷ For a discussion of the domestic like product analysis as applied to this case and information regarding industry support, see Checklist, “Antidumping Duty Investigation Initiation Checklist: Certain Superabsorbent Polymers from the Republic of Korea,” (AD Initiation Checklist) at Attachment II, Analysis of Industry Support for the Antidumping Duty Petition Covering Certain Superabsorbent Polymers from the Republic of Korea (Attachment II). This checklist is dated concurrently with this notice and on file electronically via ACCESS.

In determining whether the petitioner has standing under section 732(c)(4)(A) of the Act, we considered the industry support data contained in the Petition with reference to the domestic like product as defined in the “Scope of the Investigation,” in the appendix to this notice. To establish industry support, the petitioner provided its own production of the domestic like product in 2020.¹⁸ The petitioner states that there are no other known U.S. producers of SAP; therefore, the Petition is supported by 100 percent of the U.S. industry.¹⁹ We relied on data provided by the petitioner for purposes of measuring industry support.²⁰

¹⁸ See Petition, as amended, at Volume I at 19 and Exhibit I-9; see also Petition Supplement at 8 and Supp. Exhibit I-4.

¹⁹ See Petition, as amended, at Volume I at 2-3; see also Petition Supplement at 8 and Supp. Exhibits I-2 and I-3.

²⁰ See Petition, as amended, at Volume I at 2-3; see also Petition Supplement at 8 and Supp. Exhibit I-4. For further discussion, see AD Initiation Checklist at Attachment II.

On November 15, 2021, we received comments on industry support from LG Chem, Ltd. (LGC), a Korean producer and/or exporter of SAP.²¹ The petitioner responded to the industry support comments on November 17, 2021.²²

²¹ See LGC's Letters, “Superabsorbent Polymers from South Korea: Entry of Appearance,” dated November 8, 2021; and “Certain Superabsorbent Polymers from the Republic of Korea: Comments on Industry Support,” dated November 15, 2021.

²² See Petitioner's Letter, “Certain Superabsorbent Polymers from Korea—Response to Comments on Industry Support,” dated November 17, 2021 (Petitioner's Rebuttal).

Our review of the data provided in the Petition, the Petition Supplement, and other information readily available to Commerce indicates that the petitioner has established industry support for the Petition. First, the Petition established support from domestic producers (or workers) accounting for more than 50 percent of the total production of the domestic like product, and, as such, Commerce is not required to take further action in order to evaluate industry support (e.g., polling).²³ Second, the domestic producers (or workers) have met the statutory criteria for industry support under section 732(c)(4)(A)(i) of the Act because the domestic producers (or workers) who support the Petition account for at least 25 percent of the total production of the domestic like product.²⁴ Finally, the domestic producers (or workers) have met the statutory criteria for industry support under section 732(c)(4)(A)(ii) of the Act because the domestic producers (or workers) who support the Petition account for more than 50 percent of the production of the domestic like product produced by that portion of the industry expressing support for, or opposition to, the Petition.²⁵ Accordingly, Commerce determines that the Petition was filed on behalf of the domestic industry within the meaning of section 732(b)(1) of the Act.²⁶

²³ See AD Initiation Checklist at Attachment II; see also section 732(c)(4)(D) of the Act.

²⁴ See AD Initiation Checklist at Attachment II.

²⁵ Id.

²⁶ Id.

Allegations and Evidence of Material Injury and Causation

The petitioner alleges that the U.S. industry producing the domestic like product is being materially injured, or is threatened with material injury, by reason of the imports of the subject merchandise sold at LTFV. In addition, the petitioner alleges that subject imports exceed the negligibility threshold provided for under section 771(24)(A) of the Act.²⁷

²⁷ See Petition, as amended, at Volume I at 11-12 and Exhibits I-5 and I-6.

The petitioner contends that the industry's injured condition is illustrated by a significant and increasing volume of subject imports; reduced market share; underselling and price depression and/or suppression; lost sales and revenues; decline in production and U.S. shipments; adverse impact on capacity utilization; flat employment and decline in hours worked; and decline in financial performance.²⁸ We assessed the allegations and supporting evidence regarding material injury, threat of material injury, causation, as well as negligibility, and we have determined that these allegations are properly supported by adequate evidence, and meet the statutory requirements for initiation.²⁹

²⁸ Id. at 12-24 and Exhibits I-4, I-7 through I-10, and I-12 through I-17; see also Petition Supplement at 9-10 and Supp. Exhibits I-5, I-6, and II-8.

²⁹ See AD Initiation Checklist at Attachment III, Analysis of Allegations and Evidence of Material Injury and Causation for the Antidumping Duty Petition Covering Certain Superabsorbent Polymers from the Republic of Korea (Attachment III).

Allegations of Sales at LTFV

The following is a description of the allegations of sales at LTFV upon which Commerce based its decision to initiate an AD investigation of SAP from Korea. The sources of data for the deductions and adjustments relating to U.S. price and normal value (NV) are discussed in greater detail in the AD Initiation Checklist.

U.S. Price

The petitioner based the U.S. price on export price (EP), using pricing information for SAP produced in Korea and sold, or offered for sale, to a U.S. customer during the POI. The petitioner made certain adjustments to delivered U.S. gross price for movement expenses and other expenses, to calculate a net ex-factory U.S. price.³⁰

³⁰ See AD Initiation Checklist; see also Petition, as amended, Volume II at 3-6 and Exhibits 6, 9-13; Petition Supplement at 10-13 and Supp. Exhibits II-2—3 and 5.

Normal Value ³¹

³¹ In accordance with section 773(b)(2) of the Act, for this investigation, Commerce will request information necessary to calculate the constructed value and cost of production (COP) to determine whether there are reasonable grounds to believe or suspect that sales of the foreign like product have been made at prices that represent less than the COP of the product.

The petitioner obtained pricing information for SAP produced and sold, or offered for sale, in Korea, from a confidential report. The petitioner provided a declaration discussing the methodologies used in the report to calculate home market prices throughout the POI to support the pricing information. As the prices obtained were on a delivered basis, exclusive of value-added tax, the petitioner made deductions for movement expenses.³²

³² See AD Initiation Checklist; see also Petition, as amended, Volume II at 2-3 and Exhibits 5-7; Petition Supplement at 13-16 and Supp. Exhibits II-4 and 6-7.

Fair Value Comparisons

Based on the data provided by the petitioner, there is reason to believe that imports of SAP from Korea are being, or are likely to be, sold in the United States at LTFV. Based on a comparison of EP to NV in accordance with sections 772 and 773 of the Act, the estimated dumping margins for SAP from Korea range from 27.20 percent to 48.20.³³

³³ Id.; see also Petition, as amended, Volume II at 6 and Exhibit 15; Petition Supplement at 17 and Exhibits II-3 and II-8—II-9.

Initiation of LTFV Investigation

Based upon the examination of the Petition and supplemental responses, we find that they meet the requirements of section 732 of the Act. Therefore, we are initiating an AD investigation to determine whether imports of SAP from Korea are being, or are likely to be, sold in the United States at LTFV. In accordance with section 733(b)(1)(A) of the Act and 19 CFR 351.205(b)(1), unless postponed, we will make our preliminary determination no later than 140 days after the date of this initiation.

Respondent Selection

In the Petition, the petitioner named three companies in Korea as producers/exporters of SAP.³⁴ Following standard practice in AD investigations involving market economy countries, in the event Commerce determines that the number of exporters or producers in any individual case is large such that Commerce cannot individually examine each company based upon its resources, where appropriate, Commerce intends to select mandatory respondents in that case based on U.S. Customs and Border Protection (CBP) data for U.S. imports under the appropriate Harmonized Tariff Schedule of the United States numbers listed in the “Scope of the Investigation,” in the appendix.

³⁴ See Petition, as amended, at Volume II at Exhibit II-1.

On November 17, 2021, Commerce released CBP data on imports of SAP from Korea under Administrative Protective Order (APO) to all parties with access to information protected by APO and indicated that interested parties wishing to comment on CBP data must do so within three business days of the publication date of the notice of initiation of this investigation.³⁵ Commerce will not accept rebuttal comments regarding the CBP data or respondent selection.

³⁵ See Memorandum, “Antidumping Duty Petition on Certain Superabsorbent Polymers from the Republic of Korea: Release of U.S. Customs and Border Protection Data,” dated November 17, 2021.

Interested parties must submit applications for disclosure under APO in accordance with 19 CFR 351.305(b). Instructions for filing such applications may be found on Commerce's website at http://enforcement.trade.gov/apo.

Comments must be filed electronically using ACCESS. An electronically-filed document must be received successfully in its entirety via ACCESS by 5:00 p.m. ET on the specified deadline.

Distribution of Copies of the Petition

In accordance with section 732(b)(3)(A) of the Act and 19 CFR 351.202(f), a copy of the public version of the Petition has been provided to the government of Korea via ACCESS. To the extent practicable, we will attempt to provide a copy of the public version of the Petition to each exporter named in the Petition, as provided under 19 CFR 351.203(c)(2).

ITC Notification

Commerce will notify the ITC of its initiation, as required by section 732(d) of the Act.

Preliminary Determination by the ITC

The ITC will preliminarily determine, within 45 days after the date on which the Petition was filed, whether there is a reasonable indication that subject imports are materially injuring or threatening material injury to a U.S. industry.³⁶ A negative ITC determination will result in the investigation being terminated.³⁷ Otherwise, this AD investigation will proceed according to statutory and regulatory time limits.

³⁶ See section 733(a) of the Act.

³⁷ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³⁸ and, if the information is submitted to rebut, clarify, or correct factual information already on the record, to provide an explanation identifying the information already on the record that the factual information seeks to rebut, clarify, or correct.³⁹ Time limits for the submission of factual information are addressed in 19 CFR 351.301, which provides specific time limits based on the type of factual information being submitted. Interested parties should review the regulations prior to submitting factual information in this investigation.

³⁸ See 19 CFR 351.301(b).

³⁹ See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

Neither section 773(e) of the Act, nor 19 CFR 351.301(c)(2)(v), sets a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of a respondent's initial response to section D of the AD questionnaire.

Extensions of Time Limits

Parties may request an extension of time limits before the expiration of a time limit established under 19 CFR 351.301, or as otherwise specified by Commerce. In general, an extension request will be considered untimely if it is filed after the expiration of the time limit established under 19 CFR 351.301. For submissions that are due from multiple parties simultaneously, an extension request will be considered untimely if it is filed after 10:00 a.m. ET on the due date. Under certain circumstances, Commerce may elect to specify a different time limit by which extension requests will be considered untimely for submissions which are due from multiple parties simultaneously. In such a case, Commerce will inform parties in a letter or memorandum of the deadline (including a specified time) by which extension requests must be filed to be considered timely. An extension request must be made in a separate, stand-alone submission; Commerce will grant untimely filed requests for the extension of time limits only in limited cases where we determine, based on 19 CFR 351.302, that extraordinary circumstances exist. Parties should review Commerce's regulations concerning extensions prior to submitting extension requests or factual information in this investigation.⁴⁰

⁴⁰ See 19 CFR 351.302; see also, e.g., Extension of Time Limits; Final Rule, 78 FR 57790 (September 20, 2013), available at http://www.gpo.gov/fdsys/pkg/FR-2013-09-20/html/2013-22853.htm.

Certification Requirements

Any party submitting factual information in an AD or CVD proceeding must certify to the accuracy and completeness of that information.⁴¹ Parties must use the certification formats provided in 19 CFR 351.303(g).⁴² Commerce intends to reject factual submissions if the submitting party does not comply with the applicable certification requirements.

⁴¹ See section 782(b) of the Act.

⁴² See Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under APO in accordance with 19 CFR 351.305. Parties wishing to participate in this investigation should ensure that they meet the requirements of 19 CFR 351.103(d) (e.g., by filing the required letter of appearance).

This notice is issued and published pursuant to sections 732(c)(2) and 777(i) of the Act, and 19 CFR 351.203(c).

Dated: November 22, 2021.
Ryan Majerus,
Deputy Assistant Secretary, for Policy and Negotiations, performing the non-exclusive functions and duties of the Assistant Secretary for Enforcement and Compliance.

Appendix

Scope of the Investigation

The merchandise covered by this investigation is superabsorbent polymers (SAP), which is cross-linked sodium polyacrylate most commonly conforming to Chemical Abstracts Service (CAS) registry number 9003-04-7, where at least 90 percent of the dry matter, by weight on a nominal basis, corrected for moisture content, is comprised of a polymer with a chemical formula of (C3H3O2NaxH1−x)n, where x is within a range of 0.00-1.00 and there is no limit to n. The subject merchandise also includes merchandise with a chemical formula of {(C2H3)COONayH(1−y)}n, where y is within a range of 0.00-1.00 and there is no limit to n. The subject merchandise includes SAP which is fully neutralized as well as SAP that is not fully neutralized.

The subject merchandise may also conform to CAS numbers 25549-84-2, 77751-27-0, 9065-11-6, 9033-79-8, 164715-58-6, 445299-36-5, 912842-45-6, 561012-86-0, 561012-85-9, or 9003-01-4.

All forms and sizes of SAP, regardless of packaging type, including but not limited to granules, pellets, powder, fibers, flakes, liquid, or gel are within the scope of this investigation. The scope also includes SAP whether or not it incorporates additives for anticaking, anti-odor, anti-yellowing, or similar functions.

The scope also includes SAP that is combined, commingled, or mixed with other products after final sieving. For such combined products, only the SAP component is covered by the scope of this investigation. SAP that has been combined with other products is included within the scope, regardless of whether the combining occurs in third countries. A combination is excluded from this investigation if the total SAP component of the combination (regardless of the source or sources) comprises less than 50 percent of the combination, on a nominal dry weight basis.

SAP is classified under the Harmonized Tariff Schedule of the United States (HTSUS) subheading 3906.90.5000. SAP may also enter the United States under HTSUS 3906.90.9000 or 3906.10.0000. Although the HTSUS subheadings and CAS registry numbers are provided for convenience and customs purposes, the written description of the merchandise is dispositive.

[FR Doc. 2021-26017 Filed 11-29-21; 8:45 am]

BILLING CODE 3510-DS-P